DEPARTMENT OF HEALTH AND HUMAN SERVICES

Centers for Medicare & Medicaid Services

[Document Identifier: CMS-R-245]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Medicare and Medicaid Programs OASIS Collection Requirements as Part of the CoPs for HHAs and Supporting Regulations in 42 CFR, Sections 484.55, 484.205, 484.245, 484.250; Use: The Centers for Medicare & Medicaid Services is requesting OMB approval to modify the Outcome and Assessment Information Set (OASIS) data set that home health agencies (HHAs) are required to collect in order to participate in the Medicare program. Proposed revisions to the OASIS data set include: (1) Issues raised by stakeholders, including removing items that are not currently used by CMS for payment or quality, adding items to address clinical domains not currently covered, and modifying item wording or response categories for selected items; and (2) the addition of process items that support measurement of evidence-based practices. Proposed revisions to OASIS items address issues raised by stakeholders, including removing items that are not currently used by CMS for payment or quality, adding items to address clinical domains not currently covered, and modifying item wording or response categories for selected items. These changes and item deletions are considered to be high priority by CMS and have implications for outcome measurement, risk adjustment of outcome reports, case mix adjustment for prospective payment, data submission procedures and specifications, reporting systems, and provider paperwork burden.

In addition, adopting measures of efficient and high-quality care is central to the direction that CMS would like to take in its Quality Initiative. In accordance with long-standing Federal objectives, CMS ultimately plans to create a standard patient assessment instrument that can be used across all post-acute care settings. The revision of the OASIS instrument is an opportunity to consider various components of quality care and how patients might be better served as they (and information about them and their care) move among health care settings. For this reason, the OASIS C includes process items that support measurement of evidence-based practices across the post-acute care spectrum that have been shown to prevent exacerbation of serious conditions, can improve care received by individual patients, and can provide guidance to agencies on how to improve care and avoid adverse events. Form Number: CMS-R-245 (OMB# 0938-0760); Frequency: Occasionally; Affected Public: Business or other for-profit and not-for-profit institutions; Number of Respondents: 10,170; Total Annual Responses: 14,960,070; Total Annual Hours: 15,590,610.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on April 8, 2009.

OMB, Office of Information and Regulatory Affairs

Attention: CMS Desk Officer.

Fax Number: (202) 395-6974.

E-mail: OIRA_submission@omb.eop.gov.

Dated: March 3, 2009.
Michelle Shortt,
Director, Regulations Development Group, Office of Strategic Operations and Regulatory Affairs.

[FR Doc. E9-4883 Filed 3-6-09; 8:45 am]

BILLING CODE 4120-01-U-P